DEPARTMENT OF AGRICULTURE

Forest Service

Siskiyou County Resource Advisory Committee

AGENCY: Forest Service, USDA.

ACTION: Notice of meeting.

SUMMARY: The Siskiyou County Resource Advisory Committee (RAC) will meet in Yreka, California to conduct routine business associated with requesting proposals consistent with the Secure Rural Schools and Community Self-Determination Act.

DATES: The meeting will be held January 19, 2009 from 4:30 p.m. until 6:30 p.m.

ADDRESSES: The meeting will be held at the Yreka High School Library, Preece Way, Yreka, California.

FOR FURTHER INFORMATION CONTACT: Davida Carnahan, Forest RAC Coordinator, Klamath National Forest, (530) 841-4485 or electronically at dcarnahan@fs.fed.us.

SUPPLEMENTARY INFORMATION: The meeting is open to the public. Public comment opportunity will be provided and individuals will have the opportunity to address the Committee at that time.

Dated: December 23, 2008.
Patrica A. Grantham,
Designated Federal Official.

[FR Doc. E8-31222 Filed 1-5-09; 8:45 am]

BILLING CODE 3410-11-M